DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Florida:
Alachua (FEMA Docket No.: B-2125) | Unincorporated areas of Alachua County (20-04-2956P). | Ms. Michele L. Lieberman, Alachua County Manager, 12 Southeast 1st Street, Gainesville, FL 32601. | Alachua County Public Works Department, 5620 Northwest 120th Lane, Gainesville, FL 32653. | July 6, 2021 | 120001
Gadsden (FEMA Docket No.: B-2119) | Unincorporated areas of Gadsden County, (20-04-5221P). | The Honorable Anthony O. Viegbesie, Commissioner, Gadsden County, 9-B East Jefferson Street, Quincy, FL 32353. | Gadsden County Public Works Department, 1284 High Bridge Road, Quincy, FL 32351. | July 2, 2021 | 120091
Monroe (FEMA Docket No.: B-2125) | Unincorporated areas of Monroe County (21-04-1027P). | The Honorable Michelle Coldiron, Mayor, Monroe County Board of Commissioners, 25 Ships Way, Big Pine Key, FL 33043. | Monroe County Building Department, 2798 Overseas Highway, Suite 300, Marathon, FL 33050. | July 12, 2021 | 125129
Volusia (FEMA Docket No.: B-2133) | City of Daytona Beach (20-04-3525P). | Mr. James Chisholm, Manager, City of Daytona Beach, 301 South Ridgewood Avenue, Daytona Beach, FL 32114. | Utilities Engineering Division, 125 Basin Street, Suite 100, Daytona Beach, FL 32114. | July 2, 2021 | 125099
Volusia (FEMA Docket No.: B-2133) | Unincorporated areas of Volusia County (20-04-3525P). | Mr. George Recktenwald, Volusia County Manager, 123 West Indiana Avenue, Deland, FL 32720. | Volusia County Planning and Development Services Department, 123 West Indiana Avenue, Deland, FL 32720. | July 2, 2021 | 125155
Georgia:
Barrow (FEMA Docket No.: B-2125) | Unincorporated areas of Barrow County (20-04-3669P). | The Honorable Pat Graham, Chair, Barrow County Board of Commissioners, 30 North Broad Street, Winder, GA 30680. | Barrow County Planning and Community Development, 30 North Broad Street, Winder, GA 30680. | July 8, 2021 | 130497
Henry (FEMA Docket No.: B-2119) | Unincorporated areas of Henry County (20-04-2920P). | Ms. Cheri Hobson Matthews, Henry County Manager, 140 Henry Parkway, McDonough, GA 30253. | Henry County Stormwater Department, 347 Phillips Drive, McDonough, GA 30253. | July 1, 2021 | 130468
Pickens (FEMA Docket No.: B-2119) | City of Jasper (20-04-1908P). | The Honorable Steve Lawrence, Mayor, City of Jasper, 200 Burnt Mountain Road, Jasper, GA 30143. | City Hall, 200 Burnt Mountain Road, Jasper, GA 30143. | July 2, 2021 | 130375
Massachusetts: Barnstable (FEMA Docket, No.: B-2133) | Town of Barnstable (20-01-1587P). | Mr. Mark S. Ells, Manager, Town of Barnstable, 367 Main Street, Hyannis, MA 02601. | Inspectional Services Department, 200 Main Street, Hyannis, MA 02601. | July 6, 2021 | 250001
Montana:
Gallatin (FEMA Docket, No.: B-2130) | City of Bozeman (20-08-0500P). | Mr. Jeff Mihelich, City of Bozeman Manager, 121 North Rouse Avenue, Bozeman, MT 59715. | City Hall, 20 East Olive Street, Bozeman, MT 59715. | July 12, 2021 | 300028
Gallatin (FEMA Docket, No.: B-2130) | Unincorporated areas of Gallatin County (20-08-0500P). | The Honorable Scott MacFarlane, Chairman, Gallatin County Commission, 311 West Main Street, Room 306, Bozeman, MT 59715. | Gallatin County Department of Planning and Community Development, 311 West Main Street, Room 108, Bozeman, MT 59715. | July 12, 2021 | 300027
North Carolina:
Forsyth (FEMA Docket, No.: B-2130) | City of Winston-Salem (21-04-1235X). | The Honorable Allen Joines, Mayor, City of Winston-Salem, P.O. Box 2511, Winston-Salem, NC 27102. | Inspection Department, 100 East 1st Street, Suite 328, Winston-Salem, NC 27101. | July 8, 2021 | 375360
Forsyth (FEMA Docket, No.: B-2130) | Unincorporated areas of Forsyth County (21-04-1235X). | The Honorable David R. Plyler, Chairman, Forsyth County Board of Commissioners, 201 North Chestnut Street, Winston-Salem, NC 27101. | Forsyth County Planning Board Office, 100 East 1st Street, Winston-Salem, NC 27101. | July 8, 2021 | 375349
Orange (FEMA Docket No.: B-2136) | City of Mebane (21-04-0010P). | The Honorable Ed Hooks, Mayor, City of Mebane, 106 East Washington Street, Mebane, NC 27302. | Mebane Planning Department, 102 South 5th Street, Mebane, NC 27302 | July 15, 2021 | 370390
Texas:
Archer (FEMA Docket No.: B-2125) | City of Scotland (21-06-0024P). | The Honorable Ron Hoff, Mayor, City of Scotland, P.O. Box 32, Scotland, TX 76379. | City Hall, 727 Avenue L, Scotland, TX 76379. | July 9, 2021 | 481280
Archer (FEMA Docket No.: B-2125) | Unincorporated areas of Archer County (21-06-0024P). | The Honorable Randall C. Jackson, Archer County Judge, P.O. Box 458, Archer City, TX 76351. | Archer County Courthouse, Emergency Management Office, 100 South Center Street, Archer City, TX 76351. | July 9, 2021 | 481078
Bexar (FEMA Docket No.: B-2130) | City of Live Oak (20-06-1270P). | The Honorable Mary M. Dennis, Mayor, City of Live Oak, 8001 Shin Oak Drive, Live Oak, TX 78233. | City Hall, 8001 Shin Oak Drive, Live Oak, TX 78233. | July 6, 2021 | 480043
Bexar (FEMA Docket No.: B-2130) | City of San Antonio (20-06-1270P). | The Honorable Ron Nirenberg, Mayor, City of San Antonio, P.O Box 839966, San Antonio, TX 78283. | Transportation and Capital Improvement, Storm Water Division, 114 West Commerce Street, San Antonio, TX 78205. | July 6, 2021 | 480045
Bexar (FEMA Docket No.: B-2130) | City of San Antonio (21-06-0487P). | The Honorable Ron Nirenberg, Mayor, City of San Antonio, P.O Box 839966, San Antonio, TX 78283. | Transportation and Capital Improvement, Storm Water Division, 114 West Commerce Street, San Antonio, TX 78205. | July 6, 2021 | 480045
Bexar (FEMA Docket No.: B-2130) | City of Selma (20-06-1270P). | The Honorable Tom Daly, Mayor, City of Selma, 9375 Corporate Drive, Selma, TX 78154. | City Hall, 9375 Corporate Drive, Selma, TX 78154. | July 6, 2021 | 480046
Denton (FEMA Docket No.: B-2125) | City of Corinth (21-06-1194P). | The Honorable Bill Heidemann, Mayor, City of Corinth, 3300 Corinth Parkway, Corinth, TX 76208. | Engineering Department, 3300 Corinth Parkway, Corinth, TX 76208. | July 12, 2021 | 481143
Harris (FEMA Docket No.: B-2125) | Unincorporated areas of Harris County (19-06-3141P). | The Honorable Lina Hidalgo, Harris County Judge, 1001 Preston Street, Suite 911, Houston, TX 77002. | Harris County Permit Office, 10555 Northwest Freeway, Suite 120, Houston, TX 77002. | July 12, 2021 | 480287
Kaufman (FEMA Docket No.: B-2125) | Unincorporated areas of Kaufman County (20-06-3077P). | The Honorable Hal Richards, Kaufman County Judge, 100 West Mulberry Street, Kaufman, TX 75142. | Kaufman County Courthouse, 106 West Grove Street, Kaufman, TX 75142. | July 9, 2021 | 480411
Rockwall (FEMA Docket No.: B-2133) | City of Royse City (20-06-3214P). | The Honorable Clay Ellis, Mayor Pro Tem, City of Royse City, P.O. Box 638, Royse City, TX 75189. | City Hall, 305 North Archer Road, Royse City, TX 75189. | July 9, 2021 | 480548
Travis (FEMA Docket No.: B-2125) | City of Rollingwood (20-06-2815P). | The Honorable Mike Dyson, Mayor, City of Rollingwood, 403 Nixon Drive, Rollingwood, TX 78746. | City Hall, 403 Nixon Drive, Rollingwood, TX 78746. | July 12, 2021 | 481029
Williamson (FEMA Docket No.: B-2125) | City of Round Rock (20-06-3569P). | The Honorable Craig Morgan, Mayor, City of Round Rock, 221 East Main Street, Round Rock, TX 78664. | Department of Utilities and Environmental Services, 3400 Sunrise Road, Round Rock, TX 78665. | July 1, 2021 | 481048
West Virginia:
Cabell (FEMA Docket No.: B-2133) | City of Huntington (21-03-0357P). | The Honorable Steve Williams, Mayor, City of Huntington, P.O. Box 1659, Huntington, WV 25701. | Planning and Zoning Department, 800 5th Avenue, Suite 2, Huntington, WV 25701. | July 7, 2021 | 540018
Cabell (FEMA Docket No.: B-2133) | Unincorporated areas of Cabell County (21-03-0357P). | Ms. Beth Thompson, Cabell County Administrator, 750 5th Avenue, Suite 300, Huntington, WV 25701. | Cabell County Assessor's Office, 750 5th Avenue, Suite 300, Huntington, WV 25701. | July 7, 2021 | 540016

[FR Doc. 2021-16436 Filed 7-30-21; 8:45 am]

BILLING CODE 9110-12-P